DEPARTMENT OF ENERGY

Federal Energy Regulatory Commission

[Docket No. RP00-476-004]

Southern Natural Gas Company; Notice of Proposed Changes to FERC Gas Tariff

May 31, 2002.

Take notice that on May 13, 2002, Southern Natural Gas Company (Southern) tendered for filing as part of its FERC Gas Tariff, Seventh Revised Volume No. 1, the revised tariff sheets listed on Appendix A to the filing.

Southern states that the filing is being made in compliance with the Commission's Order on Southern's Order No. 637 Settlement dated April 11, 2002, to become effective July 1, 2002. Those sheets that remain designated as pro forma sheets will require additional programming and testing time such that the system will not be in place to accommodate those enhancements until December 1, 2002. Southern will plan to make a filing to place those sheets into effect based on the terms of the order it receives herein.

On April 11, 2002, the Commission issued an order on Southern's July 2, 2001 Settlement proposal to comply with the terms of Order No. 637. Such order modified the terms of the Settlement such that the parties withdrew from the Settlement and the Settlement dissolved under its own terms. Based on the terms of the Order, Southern submits the following tariff revisions to comply with the terms of the Order: (1) Implementation of the capacity release timetables for biddable and nonbiddable releases consistent with Version 1.5 of the NAESB Standards; (2) changes to the segmentation in reticulated areas; (3) implementation of expanded flexible receipt point rights for capacity release transactions; (4) addition of a within the path priority for Exhibit A-1 receipt point nominations and implementation of within the path Exhibit B-1 delivery point priorities; (5) implementation of procedures to approve shifting a discount to an alternate receipt or delivery point where that discount has been contracted for on a point specific basis; (6) implementation of revised OFO procedures as approved in the Order; and (7) implementation of a process to allow shippers to use a third party's storage to reconcile imbalance and enhanced use of ISS and storage transfers into and from storage accounts.

Any person desiring to protest said filing should file a protest with the Federal Energy Regulatory Commission, 888 First Street, NE., Washington, DC 20426, in accordance with Section 385.211 of the Commission's Rules and Regulations. All such protests must be filed on or before June 7, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-14185 Filed 6-5-02; 8:45 am]

BILLING CODE 6717-01-P